FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than December 6, 2021.

A. Federal Reserve Bank of Chicago (Colette A. Fried, Assistant Vice President) 230 South LaSalle Street, Chicago, Illinois 60690-1414:

1. Maria Blanca del Valle Perochena and Maria de Guadalupe del Valle Perochena, both of Mexico City, Mexico; to become limited partners in MBG Investors I, L.P., Ontario, Canada, and thereby indirectly acquire voting shares of Byline Bancorp, Inc. and Byline Bank, both of Chicago, Illinois.

B. Federal Reserve Bank of Minneapolis (Chris P. Wangen, Assistant Vice President) 90 Hennepin Avenue, Minneapolis, Minnesota 55480-0291:

1. The Jerome Hageman Stock Trust 2020, Stephen Hageman, as trustee, both of Watertown, South Dakota; to join the Hageman Family Control Group, a group acting in concert, to retain voting shares of Plains Commerce Financial, Inc., and thereby indirectly retain shares of Plains Commerce Bank, both of Hoven, South Dakota.

2. Pamela J. Bjerke, Rice, Minnesota; to acquire control of the voting shares of Stearns Financial Services, Inc. (Stearns), by becoming a co-trustee of the Stearns Financial Services, Inc. Employee Stock Ownership Plan and Trust, both of St. Cloud, Minnesota, which owns Stearns, and thereby indirectly owns Stearns Bank N.A., St. Cloud, Minnesota; Stearns Bank of Upsala, N.A., Upsala, Minnesota; and Stearns Bank of Holdingford, N.A., Holdingford, Minnesota.

Board of Governors of the Federal Reserve System, November 16, 2021.
Michele Taylor Fennell,
Deputy Associate Secretary of the Board.

[FR Doc. 2021-25312 Filed 11-18-21; 8:45 am]

BILLING CODE P